FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than May 13, 2005.

A. Federal Reserve Bank of New York (Jay Bernstein, Bank Supervision Officer) 33 Liberty Street, New York, New York 10045-0001:

1. Edgar M. Bronfman Trusts A, B, C, D, E, F, G, and Treetops Acquisition Group LP, Treetops Acquisition Group II LP, Treetops Acquisition Group Ltd., Treetops Acquisition Group II Ltd., CAM Discount Ltd., all of New York, New York, to become bank holding companies by acquiring up to fifty-one percent of the voting shares of Israel Discount Bank, Ltd., Tel Aviv, Israel, and thereby indirectly acquire Discount Bancorp, New York, New York, and Israel Discount Bank of New York, New York, New York.

B. Federal Reserve Bank of Atlanta (Andre Anderson, Vice President) 1000 Peachtree Street, N.E., Atlanta, Georgia 30303:

1. Copiah Bancshares, Inc., Hazlehurst, Mississippi; to become a bank holding company by acquiring 100 percent of the voting shares of Copiah Bank, National Association, Hazlehurst, Mississippi.

C. Federal Reserve Bank of Chicago (Patrick M. Wilder, Assistant Vice President) 230 South LaSalle Street, Chicago, Illinois 60690-1414:

1. Peotone Bancorp, Inc., Peotone, Illinois; to acquire up to 20.06 percent of the voting shares of SouthwestUSA Corporation, Las Vegas, Nevada, and thereby indirectly acquire SouthwestUSA Bank, Las Vegas, Nevada.

D. Federal Reserve Bank of Kansas City (Donna J. Ward, Assistant Vice President) 925 Grand Avenue, Kansas City, Missouri 64198-0001:

1. The Farmers State Bank of Fort Morgan, Colorado Employee Stock Ownership Plan, Fort Morgan, Colorado; to acquire up to 38 percent of the voting shares of FSB Bancorporation of Fort Morgan, Colorado, Fort Morgan, Colorado, and thereby indirectly acquire voting shares of Farmers State Bank of Fort Morgan, Fort Morgan, Colorado.

Board of Governors of the Federal Reserve System, April 13, 2005.
Robert deV. Frierson,
Deputy Secretary of the Board.

[FR Doc. 05-7749 Filed 4-18-05; 8:45 am]

BILLING CODE 6210-01-S